DEPARTMENT OF HOUSING AND URBAN DEVELOPMENT

24 CFR Part 221

[Docket No. FR-4588-F-03]

RIN 2502-AH50

Discontinuation of the Section 221(d)(2) Mortgage Insurance Program; Delay of Effective Date

AGENCY: Office of the Secretary, HUD.

ACTION: Final rule; delay of effective date.

SUMMARY: This document advises the public that the final rule published on January 19, 2001, which discontinues the section 221(d)(2) mortgage insurance program, will take effect on April 20, 2001. As provided in the “Supplementary Information” section of this final rule, this delay in the effective date is made in response to a White House memorandum of January 20, 2001. Given the imminence of the effective date of this rule, seeking prior public comment in accordance with HUD's regulations on rulemaking would have been impractical, as well as contrary to the public interest in the orderly promulgation and implementation of regulations.

DATES: The effective date of the final rule amending 24 CFR part 221 published at 66 FR 5912 (January 19, 2001) is delayed from February 20, 2001, until April 20, 2001.

FOR FURTHER INFORMATION CONTACT: Vance T. Morris, Director, Office of Single Family Program Development, Office of Insured Single Family Housing, Room 9266, U.S. Department of Housing and Urban Development, 451 Seventh Street, SW., Washington, DC 20410-8000; telephone (202) 708-2121 (this is not a toll-free number). Hearing- or speech-impaired individuals may access this number via TTY by calling the toll-free Federal Information Relay Service at (800) 877-8339.

SUPPLEMENTARY INFORMATION: On January 19, 2001 (66 FR 5912), HUD published a final rule to discontinue the section 221(d)(2) mortgage insurance program. The January 19, 2001 final rule follows publication of a September 28, 2000 proposed rule. Since no public comments were received on the proposed rule, the January 19, 2001 final rule adopts the proposed regulatory amendments without change.

The section 221(d)(2) program is rarely used by homebuyers, primarily due to its low mortgage limits. Moreover, the section 221(d)(2) program provides few homeownership opportunities not already made available by other HUD mortgage insurance programs. For these reasons, HUD decided to discontinue the section 221(d)(2) program and issued the January 19, 2001 final rule.

The January 19, 2001 final rule provides for the rule to take effect on February 20, 2001. On January 20, 2001, the White House issued a memorandum to the heads and acting heads of all Executive Departments and Agencies regarding regulatory review. The January 20, 2001 memorandum instructs the agencies to temporarily postpone the effective dates of their regulations that have been published in the Federal Register but have not yet taken effect by 60 days. Consistent with the directive of the January 20, 2001 White House memorandum, the purpose of this document is to give notice that the effective date of the January 19, 2001 final rule has been changed to April 20, 2001.

Accordingly, HUD's final rule published on January 19, 2001 at 66 FR 5912 (Docket No. FR-4588-F-02, FR Doc. 01-1534) will take effect on April 20, 2001.

Dated: January 24, 2001.
Mel Martinez,
Secretary.

[FR Doc. 01-2562 Filed 1-29-01; 8:45 am]

BILLING CODE 4210-32-P